CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning the locating of respondents for the National Evaluation of Youth Corps. The National Evaluation of Youth Corps is a study to determine the impact of participation in youth corps on members' educational attainment, employment and earnings, workplace and life skills, and avoidance of risk behaviors. The National Evaluation of Youth Corps is based on the hypothesis that participation in youth corps may lead to measurable outcomes for participants. The study uses an experimental design to assess program impacts on program participants. Many of the youth corps programs receive all or part of their funding from the Corporation.

Copies of the information collection requests can be obtained by contacting the office listed in the address section of this notice.

DATES: Written comments must be submitted to the individual and office listed in the ADDRESSES section by September 20, 2010.

ADDRESSES: You may submit comments, identified by the title of the information collection activity, by any of the following methods:

(1) By mail sent to: Corporation for National and Community Service, Attention: Lillian Dote, Program Officer, Office of Research and Policy Development, Curtis Center, 601 Walnut Street, Suite 876E, Philadelphia, PA, 19106.

(2) By hand delivery or by courier to the street address given in paragraph (1) above, between 9 a.m. and 4 p.m. Monday through Friday, except Federal holidays.

(3) By fax to: (215) 597-4933, Attention: Lillian Dote, Program Officer, Office of Research and Policy Development.

(4) Electronically through the Corporation's e-mail address system: ldote@cns.gov.

FOR FURTHER INFORMATION CONTACT: Lillian Dote at (215) 597-2715 or by e-mail at ldote@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation is interested in learning about the effects of national service on participants. This study uses an experimental design to assess the outcomes associated with participation in national service. The proposed locating effort will be completed by sample members only, including former corps members and their counterparts in the comparison group.

In an effort to reduce the burden on sample members during this locating effort, the Corporation is simplifying the information collection. A large number of employment, education, civic engagement, and risk behavior questions will be eliminated or simplified, thereby resulting in a reduction in the prior burden estimate. In addition, the Corporation has reduced the sample from 2,267 to 2,043. Study participants who did not respond to the baseline and 18-month follow-up survey have been removed from the sample.

Current Action

The Corporation seeks renewal of its earlier application.

Type of Review: Renewal.

Agency: Corporation for National and Community Service.

Title: National Evaluation of Youth Corps.

OMB Number: 3045-0124.

Agency Number: None.

Affected Public: Individuals who have agreed to participate in the National Evaluation of Youth Corps and who have completed a baseline survey.

Total Respondents: 2,043.

Frequency: Periodically.

Average Time per Response: Averages 15 minutes.

Estimated Total Burden Hours: 511 hours.

Total Burden Cost (capital/startup): None.

Total Burden Cost (operating/maintenance): None.

Comments submitted in response to this notice will be summarized and/or included in the request for Office of Management and Budget approval of the information collection request; they will also become a matter of public record.

Dated: July 13, 2010.
Kevin Cramer,
Acting Director, Office of Research and Policy Development.

[FR Doc. 2010-17586 Filed 7-19-10; 8:45 am]

BILLING CODE 6050-$$-P